ENVIRONMENTAL PROTECTION AGENCY

[FRL-7828-5]

Notice of Proposed Agreement for Recovery of Past Response Costs Under the Comprehensive Environmental Response, Compensation and Liability Act (CERCLA) as Amended, Bernstein Salvage Superfund Site, Oskaloosa, IA, Docket No. CERCLA-07-2004-0158

AGENCY: Environmental Protection Agency.

ACTION: Notice of proposed agreement for past response costs, Bernstein Salvage Site, Oskaloosa, Iowa.

SUMMARY: Notice is hereby given that a proposed agreement regarding the Bernstein Salvage Superfund Site located in Oskaloosa, Iowa, was signed by the United States Environmental Protection Agency (EPA) on July 26, 2004, and by the United States Department of Justice (DOJ) on September 15, 2004.

DATES: EPA will receive, for a period of thirty (30) days from the date of this publication, written comments relating to the proposed agreement.

ADDRESSES: Comments should be addressed to Barbara L. Peterson, Senior Assistant Regional Counsel, United States Environmental Protection Agency, Region VII, 901 N. 5th Street, Kansas City, Kansas 66101 and should refer to: In the Matter of Bernstein Salvage Superfund Site, Oskaloosa, Iowa, Union Pacific Railroad (Settling Party), Docket No. CERCLA-07-2004-0158.

The proposed agreement may be examined or obtained in person or by mail from Barbara L. Peterson, United States Environmental Protection Agency, Region VII, 901 N. 5th Street, Kansas City, KS 66101, (913) 551-7277.

SUPPLEMENTARY INFORMATION: This proposed agreement concerns the Bernstein Salvage Superfund Site, located in Oskaloosa, Iowa, and is made and entered into by EPA and Union Pacific Railroad (Settling Party).

In response to the release of hazardous substances at or from the Site, EPA undertook response actions at the Site pursuant to Section 104 of CERCLA, 42 U.S.C. 9604. In performing these response actions, EPA incurred response costs at or in connection with the Site.

Pursuant to Section 107(a) of CERCLA, 42 U.S.C. 9607(a), the Settling Party is a responsible party and is liable for response costs incurred or to be incurred at or in connection with the Site. This Agreement requires the Settling Party to pay to the Hazardous Substance Superfund the principal sum of $100,000 in reimbursement of Past Response Costs, plus an additional sum for interest and will resolve the Settling Party's civil liability for these costs. The proposed agreement also includes a covenant not to sue the Settling Party pursuant to Section 107(a) of CERCLA, 42 U.S.C. 9607(a).

Dated: September 29, 2004.
James B. Gulliford,
Regional Administrator, United States Environmental Protection Agency, Region VII.

[FR Doc. 04-23263 Filed 10-18-04; 8:45 am]

BILLING CODE 6560-50-P